Title 3—

The President

Proclamation 9389 of January 15, 2016

Religious Freedom Day, 2016

By the President of the United States of America

A Proclamation

Since our country's founding, religious freedom has been heralded as one of our most cherished ideals. The right to practice religion freely has brought immigrants from all over the world to our shores, often in the face of great adversity, so they could live their lives in accordance with the dictates of their consciences. Some of America's earliest settlers, the Pilgrims, arrived at our shores in search of a more tolerant society, free from religious persecution. Since that time, people of many religious traditions have added their own threads to the fabric of our Nation, helping advance a profound and continuous vindication of the idea of America.

When the Virginia Statute for Religious Freedom was adopted on January 16, 1786, it formed a blueprint for what would become the basis for the protection of religious liberty enshrined in our Constitution. Drafted by Thomas Jefferson, the statute proclaims that “all men shall be free to profess, and by argument to maintain, their opinions in matters of religion, and that the same shall in no wise diminish, enlarge, or affect their civil capacities.” The First Amendment prohibits Government from establishing religion, and it protects the free exercise of every faith. Our Government does not sponsor a religion, nor does it pressure anyone to practice a particular faith, or any faith at all. The United States stands for the protection of equal rights for all people to practice their faith freely, without fear or coercion, and as Americans, we understand that when people of all religions are accepted and are full and equal members of our society, we are all stronger and freer.

Our commitment to religious freedom has fostered unprecedented religious diversity and freedom of religious practice. But these ideals are not self-executing. Rather, they require a sustained commitment by each generation to uphold and preserve them. Here at home, my Administration is working to preserve religious liberty and enforce civil rights laws that protect religious freedom—including laws that protect employees from religious discrimination and require reasonable accommodation of religious practices on the job. We will keep upholding the right of religious communities to establish places of worship and protecting the religious rights of those so often forgotten by society, such as incarcerated persons and individuals confined to institutions. We will also continue to protect students from discrimination and harassment that is based on their faith, and we will continue to enforce hate crime laws, including those perpetrated based on a person's actual or perceived religion. This work is crucial, particularly given the recent spike in reports of threats and violence against houses of worship, children, and adults simply because of their religious affiliation.

As we strive to uphold religious freedom at home, we recognize that this basic element of human dignity does not stop at our shores, and we work to promote religious freedom around the globe. We are working with a broad coalition against those who have subjected religious minorities to unspeakable violence and persecution, and we are mobilizing religious and civic leaders to defend vulnerable religious communities. In addition, we are calling for the elimination of improper restrictions that suppress religious practice, coordinating with governments around the world to promote religious freedom for citizens of every faith, and expanding training for our diplomats on how to monitor and advocate for this freedom. All people deserve the fundamental dignity of practicing their faith free from fear, intimidation, and violence.

On Religious Freedom Day, let us recommit ourselves to protecting religious minorities here at home and around the world. May we remember those who have been persecuted, tortured, or murdered for their faith and reject any politics that targets people because of their religion, including any suggestion that our laws, policies, or practices should single out certain faiths for disfavored treatment. And as one Nation, let us state clearly and without equivocation that an attack on any faith is an attack on every faith and come together to promote religious freedom for all.

NOW, THEREFORE, I, BARACK OBAMA, President of the United States of America, by virtue of the authority vested in me by the Constitution and the laws of the United States, do hereby proclaim January 16, 2016 as Religious Freedom Day. I call on all Americans to commemorate this day with events and activities that teach us about this critical foundation of our Nation's liberty, and that show us how we can protect it for future generations at home and around the world.

IN WITNESS WHEREOF, I have hereunto set my hand this fifteenth day of January, in the year of our Lord two thousand sixteen, and of the Independence of the United States of America the two hundred and fortieth.

[FR Doc. 2016-01323

Filed 1-20-16; 11:15 am]

Billing code 3295-F6-P